DEPARTMENT OF AGRICULTURE

Farm Service Agency

[Docket ID: FSA-2022-0002]

Information Collection Request; Agricultural Foreign Investment Disclosure Act Report

AGENCY: Farm Service Agency, USDA.

ACTION: Notice; request for comments.

SUMMARY: In accordance with the Paperwork Reduction Act of 1995, the Farm Service Agency (FSA) is requesting comments from all interested individuals and organizations on a revision and an extension of a currently approved information collection request associated with the Agricultural Foreign Investment Disclosure Act (AFIDA) of 1978.

DATES: We will consider comments that we receive by April 19, 2022.

ADDRESSES: We invite you to submit comments on the notice. You may submit comments, identified by Docket ID: FSA-2022-0002, in the Federal eRulemaking Portal: Go to https://www.regulations.gov. Follow the online instructions for submitting comments.

You may also send comments to the Desk Officer for Agriculture, Office of Information and Regulatory Affairs, Office of Management and Budget, Washington, DC 20503. Copies of the information collection may be requested by contacting Tricia Barnes below.

FOR FURTHER INFORMATION CONTACT: Tricia Barnes, telephone: (202) 720-0604; email: Tricia.Barnes@usda.gov. Persons with disabilities who require alternative means for communication should contact the USDA Target Center at (202) 720-2600 (voice).

SUPPLEMENTARY INFORMATION:

Title: Agricultural Foreign Investment Disclosure Act Report.

OMB Control Number: 0560-0097.

Expiration Date of Approval: June 30, 2022.

Type of Request: Revision.

Abstract: AFIDA requires foreign persons who hold, acquire, or dispose of any interest in U.S. agricultural land to report the transactions and holdings to FSA on an AFIDA report (FSA-153). The information collected is made available to States. Also, the information collected from the AFIDA reports is used to prepare an annual report to Congress.

The number of respondents increased by 2,250, and the burden hours increased by 1,063. The increase is because more foreign persons acquired or transferred an interest in U.S. agricultural land than in prior years and must comply with AFIDA reporting requirements.

For the following estimated total annual burden on respondents, the formula used to calculate the total burden hour is the estimated average time per responses hours multiplied by the estimated total annual responses.

Estimate of Respondent Burden: Public reporting burden for the information collection is estimated to average 0.476 hours per response.

Respondents: Individuals or households, businesses or other for profit farms.

Estimated Annual Number of Respondents: 7,775.

Estimated Number of Reponses per Respondent: 1.

Estimated Total Annual Responses: 7,775.

Estimated Average Time per Response: 0.476 hours.

Estimated Total Annual Burden on Respondents: 3,694 hours.

We are requesting comments on all aspects of this information collection to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Zach Ducheneaux,
Administrator, Farm Service Agency.

[FR Doc. 2022-03487 Filed 2-17-22; 8:45 am]

BILLING CODE 3410-05-P